DEPARTMENT OF THE INTERIOR

Fish and Wildlife Service

Hanford Reach National Monument Federal Advisory Committee Meetings

AGENCY: Fish and Wildlife Service, Interior.

ACTION: Notice of Hanford Reach National Monument Federal Planning Advisory Committee meeting.

SUMMARY: The U.S. Fish and Wildlife Service (Service) is announcing a two-day meeting of the Hanford Reach National Monument Federal Planning Advisory Committee (Committee). In this meeting, the Committee will continue working on making recommendations to the Service and the Department of Energy on preparation of the Comprehensive Conservation Plan and associated Environmental Impact Statement (CCP/EIS) for the Hanford Reach National Monument (Monument). The Committee is focusing on advice that identifies and reconciles land management issues while meeting the directives of Presidential Proclamation 7319 that established the Monument.

DATES: The Committee has scheduled the following meetings:

1. Wednesday, June 16, 2004, 9:30 a.m. to 4:30 p.m., Richland, WA.

2. Thursday, June 17, 2004, 9:30 a.m. to 12:30 p.m., Richland, WA.

ADDRESSES: Both meetings will take place at the Washington State University Tri-Cities Consolidated Information Center, 2770 University Drive, Rooms 120 and 120 A, Richland, WA.

Written comments may be submitted to: Mr. Greg Hughes, Designated Federal Official for the Hanford Reach National Monument Federal Planning Advisory Committee, Hanford Reach National Monument/Saddle Mountain National Wildlife Refuge, 3250 Port of Benton Blvd., Richland, WA, 99352. Copies of the draft meeting agenda can be obtained from the Designated Federal Official. Comments may also be submitted via e-mail to hanfordreach@fws.gov or faxed to (509) 375-0196. Additional information regarding the Monument and the CCP/EIS is available on the Monument's Internet site at http://hanfordreach.fws.gov.

FOR FURTHER INFORMATION CONTACT: For further information concerning the meetings, contact Mr. Greg Hughes, via telephone at (509) 371-1801, or fax at (509) 375-0196.

SUPPLEMENTARY INFORMATION: Committee meetings are open to the public. Verbal comments may be submitted during the course of the meeting. Written comments may be submitted as described under ADDRESSES.

Dated: April 6, 2004.
David J. Wesley,
Acting Regional Director, Region 1, Portland, Oregon.

[FR Doc. 04-8989 Filed 4-20-04; 8:45 am]

BILLING CODE 4310-55-P